COMMITTEE FOR PURCHASE FROM PEOPLE WHO ARE BLIND OR SEVERELY DISABLED

Information Collection To Be Submitted to the Office of Management and Budget (OMB) for Approval Under the Paperwork Reduction Act; Nonprofit Agency Recordkeeping Requirements

AGENCY: Committee for Purchase from People Who Are Blind or Severely Disabled.

ACTION: Notice; request for comments.

SUMMARY: The Committee for Purchase from People Who Are Blind or Severely Disabled (The Committee) will submit the collection of information listed below to OMB for approval under the provisions of the Paperwork Reduction Act. This notice solicits comments on that collection of information.

DATES: Submit your written comments on the information collection on or before December 3, 2004.

ADDRESSES: Mail your comments on the requirement to Janet Yandik, Information Management Specialist, Committee for Purchase from People Who Are Blind or Severely Disabled, 1421 Jefferson Davis Highway, Jefferson Plaza 2, Suite 10800, Arlington, VA, 22202-3259; fax (703) 603-0655; or e-mail rulecomments@jwod.gov.

FOR FURTHER INFORMATION CONTACT: Anissa Craghead, Regulatory Affairs Specialist, Committee for Purchase from People Who Are Blind or Severely Disabled, 1421 Jefferson Davis Highway, Jefferson Plaza 2, Suite 10800, Arlington, VA, 22202-3259; phone (703) 603-0033; fax (703) 603-0655; or e-mail acraghead@jwod.gov.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). The Committee plans to submit a request to OMB to renew its approval of the collection of information for nonprofit agency responsibilities related to recordkeeping. The Committee is requesting a 3-year term of approval for this information collection activity.

Federal agencies may not conduct or sponsor, and a person is not required to respond to, a collection of information unless it displays a currently valid OMB control number. The OMB control number for this collection of information is 3037-0005.

The Javits-Wagner-O'Day (JWOD) Act of 1971 (41 U.S.C. 46-48c) is the authorizing legislation for the JWOD Program. The JWOD Program creates jobs and training opportunities for people who are blind or who have other severe disabilities. Its primary means of doing so is by requiring Government agencies to purchase selected products and services from nonprofit agencies employing such individuals. The JWOD Program is administered by the Committee. Two national, independent organizations, National Industries for the Blind (NIB) and NISH, help State and private nonprofit agencies participate in the JWOD Program.

The implementing regulations for the JWOD Act, which are located at 41 CFR Chapter 51, detail the recordkeeping requirements imposed on nonprofit agencies participating in the JWOD Program. Section 51-2.4 of the regulations describes the criteria that the Committee must consider when adding a product or service to its Procurement List. One of these criteria is that a proposed addition must demonstrate a potential to generate employment for people who are blind or severely disabled. The Committee decided that evidence that employment will be generated for those individuals consists of recordkeeping that tracks direct labor and revenues for products or services sold through a JWOD Program contract. This recordkeeping can be done on each individual JWOD project or by product or service family.

In addition, § 51-4.3 of the regulations requires that nonprofit agencies keep records on direct labor hours performed by each worker and keep an individual record or file for each blind or severely disabled individual documenting that individual's disability and capabilities for competitive employment. The records that nonprofit agencies must keep in accordance with § 51-4.3 of the regulations constitute the bulk of the hour burden associated with this OMB control number.

This information collection renewal request seeks approval for the Committee to continue to ensure compliance with recordkeeping requirements established by the authority of the JWOD Act and set forth in the Act's implementing regulations and to ensure that the Committee has the ability to confirm the suitability of products and services on its Procurement List. The recordkeeping requirements described in this document are the same as those currently imposed on nonprofit agencies participating in the JWOD Program.

Title: Nonprofit Agency Responsibilities, 41 CFR 51-2.4 and 51-4.3.

OMB Control Number: 3037-0005.

Description of Collection: Recordkeeping.

Description of Respondents: Nonprofit agencies participating in the JWOD Program.

Annual Number of Respondents: About 650 nonprofit agencies will annually participate in recordkeeping.

Total Annual Burden Hours: The recordkeeping burden is estimated to average 5 hours per respondent. Total annual burden is 3,250 hours.

We invite comments concerning this renewal on: (1) Whether the collection of information is necessary for the proper performance of our agency's functions, including whether the information will have practical utility; (2) the accuracy of our estimate of the burden of the collection of information; (3) ways to enhance the quality, utility, and clarity of the information to be collected; and (4) ways to minimize the burden of the collection of information on respondents.

Dated: September 28, 2004.
Sheryl D. Kennerly,
Director, Information Management.

[FR Doc. 04-22179 Filed 10-1-04; 8:45 am]

BILLING CODE 6353-01-P